DEPARTMENT OF ENERGY

Office of Energy Efficiency and Renewable Energy

[Docket No. EERE-2014-BT-NOA-0016]

Physical Characterization of Grid-Connected Commercial and Residential Buildings End-Use Equipment and Appliances

AGENCY: Office of Energy Efficiency and Renewable Energy, Department of Energy.

ACTION: Notice of availability and request for public comment.

SUMMARY: The U.S. Department of Energy (DOE) is announcing the availability of a Framework Document for the physical characterization of grid-connected building's end-use equipment and appliances. DOE welcomes written comments and relevant data from interested parties on any subject within the scope of this framework. A copy of the Framework Document is available at: http://www.regulations.gov/#!documentDetail;D=EERE-2014-BT-NOA-0016-0022.

DATES: DOE will accept written comments, data, and information regarding the Framework Document no later than September 29, 2014.

ADDRESSES: Any comments submitted must identify the request for comment for physical characterization of grid-connected buildings and provide docket number EERE-2014-BT-NOA-0016. Comments may be submitted by any of the following methods:

• Email: ConnectedBuildings2014NOA0016@ee.doe.gov Include the docket number EERE-2014-BT-NOA-0016 in the subject line of the message.

• Mail: Mr. Joseph Hagerman, U.S. Department of Energy, Building Technologies Office, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Mr. Joseph Hagerman, U.S. Department of Energy, Building Technologies Program, 950 L'Enfant Plaza SW., Suite 600, Washington, DC 20024. If possible, please submit all items on CD, in which case it is not necessary to include printed copies.

Docket: The docket is available for review at www.regulations.gov, including Federal Register notices, framework documents, public meeting attendee lists and transcripts, comments, and other supporting documents/materials. All documents in the docket are listed in the www.regulations.gov index.

FOR FURTHER INFORMATION CONTACT: Mr. Joseph Hagerman, U.S. Department of Energy, Office of Building Technologies (EE-5B), 950 L'Enfant Plaza SW., Washington, DC 20024. Phone: (202) 586-4549. Email: joseph.hagerman@ee.doe.gov.

SUPPLEMENTARY INFORMATION: On June 5, 2014, the U.S. Department of Energy (DOE) published a request for comment and notice of a public meeting in the Federal Register (79 FR 32542). The public meeting was held on July 11, 2014, where the structure and content for the draft Framework Document were presented and discussed. At that meeting, DOE announced that it would make the Framework Document available for public comment within 2-3 weeks of the public meeting. This notice announces the availability of the Framework Document, which proposes a draft plan for development of characterization protocols for connected building's end-use appliances and equipment. A copy of the Framework Document is available at: http://www.regulations.gov/#!documentDetail;D=EERE-2014-BT-NOA-0016-0022. In addition, the Framework Document specifically seeks comment on the following issues:

1. What reports, studies, activities or other documents are there that might be useful in the development of characterization protocols for connected equipment?

2. How can these terms (in the document) be better defined?

3. Should additional terms be defined?

4. Are there other aspects of the experimental set-up that should be considered for connected equipment?

5. Should there be a step to determine eligibility for characterization as connected equipment?

6. If so, what are the minimum features in order to become eligible?

7. What responses should be characterized for connected equipment?

8. Should there be an approved list of responses available for characterization?

9. How does characterization sequence depend on equipment type?

10. What aspects should be included in a characterization sequence for connected equipment?

11. What data should be collected for physical, informational, or other responses?

12. What metrics should be computed for physical, informational, or other responses?

13. Are there other aspects of the characterization execution that should be considered for connected equipment?

14. Which of the two options for establishing the characterization protocols best addresses industry needs and minimizes industry burdens?

15. Are there other options that DOE might pursue for establishing characterization protocols?

16. Would it be useful to have illustrative examples like this in the framework document?

17. After seeing this illustrative example, does the framework need additional steps or further revision?

DOE will accept written comments, data, and information regarding the Framework Document no later than September 29, 2014.

Issued in Washington, DC, on August 6, 2014.
Kathleen B. Hogan,
Deputy Assistant Secretary for Energy Efficiency, Energy Efficiency and Renewable Energy.

[FR Doc. 2014-19297 Filed 8-13-14; 8:45 am]

BILLING CODE XXXX-XX-P